DEPARTMENT OF THE INTERIOR

National Park Service

Gettysburg National Military Park Advisory Commission

AGENCY: National Park Service.

ACTION: Notice of two meetings to be held on March 19, 2009 and September 10, 2009.

SUMMARY: This notice sets forth the dates of March 19, 2009 and September 10, 2009 of the Gettysburg National Military Park Advisory Commission.

DATES: The public meetings will be held on March 19, 2009 and September 10, 2009 from 7 p.m. to 9 p.m.

Location: The meetings will be held at the Ford Education Center, 1195 Baltimore Pike, Gettysburg, Pennsylvania 17325

Agenda: The March 19, 2009 and September 10, 2009 meetings will consist of the Sub-Committee Reports from the Historical, Executive, and Interpretive Committees; Federal Consistency Reports Within the Gettysburg Battlefield Historic District; Operational Updates on Park Activities, which consists of an update on the Gettysburg National Battlefield Museum Foundation and National Park Service activities related to the new Visitor Center/Museum Complex, updates on the Wills House and Train Station; Transportation which consists of the National Park Service and the Gettysburg Borough working on the Shuttle System; Update on Land Acquisition within the park boundary or in the historic district; and the Citizens Open Forum where the public can make comments and ask questions on any park activity.

FOR FURTHER INFORMATION CONTACT: John A. Latschar, Superintendent Gettysburg National Military Park, 97 Taneytown Road, Gettysburg, Pennsylvania 17325.

SUPPLEMENTARY INFORMATION: The meeting will be open to the public. Any member of the public may file with the Commission a written statement concerning agenda items. The statement should be addressed to the Gettysburg National Military Park Advisory Commission, 1195 Baltimore Pike, Gettysburg, Pennsylvania 17325.

Dated: October 15, 2008.
John A. Latschar,
Superintendent, Gettysburg NMP/Eisenhower NHS.

[FR Doc. E8-26130 Filed 10-31-08; 8:45 am]

BILLING CODE 4310-JT-M